DEPARTMENT OF COMMERCE

National Oceanic and Atmospheric Administration

Initiation of the Monitor National Marine Sanctuary Management Plan Review: Notice of Public Scoping Meetings

AGENCY: Office of National Marine Sanctuaries (ONMS), National Ocean Service (NOS), National Oceanic and Atmospheric Administration (NOAA), Department of Commerce (DOC).

ACTION: Notice of public scoping meetings for initiation of the Monitor National Marine Sanctuary management plan review.

SUMMARY: In accordance with section 304(e) of the National Marine Sanctuaries Act, as amended (NMSA), NOAA is holding scoping meetings to:

1. Solicit public comments and identify issues on the continued management of the Monitor National Marine Sanctuary; and

2. Help determine the scope of issues to be addressed in the preparation of an environmental impact statement (EIS) pursuant to the National Environmental Policy Act (NEPA), if warranted.

DATES: See SUPPLEMENTARY INFORMATION section below for the dates, times, and locations of the public scoping meetings. All comments on issues related to the continued management of the Monitor National Marine Sanctuary will be considered if received on or before February 1, 2009.

FOR FURTHER INFORMATION AND SUBMISSION OF COMMENTS CONTACT: Shannon Ricles at (757) 591-7328. All written inquiries and comments may also be mailed to Monitor National Marine Sanctuary, 100 Museum Drive, Newport News, VA 23606, or by fax at (757) 591-7353.

SUPPLEMENTARY INFORMATION:

Background Information

The Monitor National Marine Sanctuary (MNMS or Sanctuary) was designated on January 30, 1975, and is located on the Atlantic continental shelf approximately 16 miles south-southeast of Cape Hatteras, North Carolina. The Sanctuary encompasses a vertical column of water around the wreck site one nautical mile in diameter from the surface to the seabed. The present management plan for the Sanctuary was completed in February 1983, and a comprehensive long-range plan that focused on the stabilization, preservation, recovery, conservation, and exhibition of materials and artifacts from the Monitor site was implemented in April 1998. For detailed information on the Monitor National Marine Sanctuary, including the 1983 Management Plan and the 1998 Comprehensive Preservation Plan, please visit http://www.monitor.noaa.gov.

In accordance with Section 304(e) of the National Marine Sanctuaries Act, as amended (NMSA), 16 U.S.C. 1431 et seq., the Office of National Marine Sanctuaries (ONMS) of the National Oceanic and Atmospheric Administration (NOAA) is initiating a review of the current management plan to evaluate the substantive progress made toward implementing the goals for the Sanctuary, and to make revisions to the plan and regulations as necessary to fulfill the purposes and policies of the NMSA. The proposed revised management plan may involve changes to existing policies and regulations of the sanctuary, will address contemporary issues and challenges, and better protect and manage the Sanctuary's resources and qualities. The review process is composed of four primary stages:

(1) Information collection and characterization, including public scoping meetings;

(2) Preparation and release of a revised draft management plan/environmental evaluation that includes any proposed new regulations or amendments to current regulations;

(3) Public review and comment on the draft plan; and

(4) Preparation and release of a final management plan/environmental evaluation that could also include new regulations to fully implement the revised management plan.

NOAA anticipates that the completion of the revised management plan and concomitant documents will require approximately twenty-four to thirty-six months. This notice is to inform the public that NOAA will conduct scoping meetings to gather information and other comments from individuals, organizations, and government agencies on the scope, types, and significance of issues related to the Sanctuary's management plan and regulations. These scoping meetings will also help determine the scope of issues to be addressed in the preparation of an EIS pursuant to the NEPA, 43 U.S.C. 4321 et seq., if warranted. The public scoping meeting schedule is presented below.

Public Scoping Meetings

The public scoping meetings will be held on the following dates and at the following locations:

December 1, 2008 6-8 p.m | Manteo, NC | North Carolina Aquarium, 374 Airport Road, Manteo, NC.
December 2, 2008 6-8 p.m | Raleigh, NC | North Carolina Museum of History, 5 East Edenton Street, Raleigh, NC.
December 3, 2008 6-8 p.m | Pine Knoll Shores, NC | North Carolina Aquarium, 1 Roosevelt Boulevard, Pine Knoll Shores, NC.
December 4, 2008 6-8 p.m | Hatteras, NC | Graveyard of the Atlantic Museum, 59200 Museum Drive, Hatteras, NC.
December 6, 2008 1-3 p.m | Newport News, VA | Mariner's Museum, 100 Museum Drive, Newport News, VA.

Dated: November 4, 2008.
Daniel J. Basta,
Director, Office of National Marine Sanctuaries NOAA.

[FR Doc. E8-26792 Filed 11-12-08; 8:45 am]

BILLING CODE 3510-22-M